FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than November 29, 2024.

A. Federal Reserve Bank of Kansas City (Jeffrey Imgarten, Assistant Vice President) 1 Memorial Drive, Kansas City, Missouri, 64198-0001. Comments can also be sent electronically to KCApplicationComments@kc.frb.org:

1. The Dwight H. France Revocable Trust, Candace France, in her capacity as successor trustee, both of Encampment, Wyoming; to retain voting shares of Rawlins Bankshares, Inc. (the company), and thereby indirectly retain voting shares of Bank of Commerce, both of Rawlins, Wyoming (the bank).

In addition, the Candace C. France Revocable Trust, Candace France, as trustee, both of Encampment, Wyoming; to become members of the France Family Group, a group acting in concert, to acquire voting shares of the company and thereby indirectly acquire voting shares of the bank.

Finally, Natalie France, Nampa, Idaho; and Tara France, Katelyn France, and Karsyn France, all of Rawlins, Wyoming; to become members of the France Family Group to retain voting shares of the company, and thereby indirectly retain voting shares of the bank.

2. The DLS SFG Marital Trust UTA The Donald L. Sturm Trust dated 4/22/1994, as amended, and Susan M. Sturm, Stephen F. Sturm, and Emily S. Ehrens, as co-trustees, all of Denver, Colorado; to join the Sturm Family Group, a group acting in concert, to retain voting shares of Sturm Financial Group, Inc., and thereby indirectly retain voting shares of ANB Bank, all of Denver, Colorado. Susan M. Sturm, Stephen F. Sturm, and Emily S. Ehrens, all individually, were previously permitted by the Reserve Bank to become members of the Sturm Family Group.

B. Federal Reserve Bank of Dallas (Karen Smith, Director, Mergers & Acquisitions) 2200 North Pearl Street, Dallas, Texas 75201-2272. Comments can also be sent electronically to Comments.applications@dal.frb.org:

1. Patricia M. Thomas, individually, and as trustee for The Kathryn McLaughlin Irrevocable Asset Trust FBO Patricia M. Thomas, Harvey I. Thomas, Ryan E. Thomas, Anne A. Thomas and three minor children, all of Granbury, Texas; Justin L. Thomas, Kimberly D. Thomas and three minor children, all of Lipan, Texas; Karyn M. First, individually, and as trustee for The Kathryn McLaughlin Irrevocable Asset Trust FBO Karyn M. Frist, William H. Frist, Jr., and Bryan E. Frist, all of Nashville, Tennessee; and Jonathan M. Frist, Washington, DC, to become members of the Thomas-Frist Family Group, a group acting in concert, to retain voting shares of Vista Bancshares, Inc., and thereby indirectly retain voting shares of Vista Bank, both of Dallas, Texas.

Board of Governors of the Federal Reserve System.
Erin Cayce,
Assistant Secretary of the Board.

[FR Doc. 2024-26522 Filed 11-13-24; 8:45 am]

BILLING CODE P